DEPARTMENT OF COMMERCE

National Oceanic and Atmospheric Administration

RIN 0648-XG526

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Enforcement Committee and Advisory Panel to consider actions affecting New England fisheries in the exclusive economic zone (EEZ). Recommendations from this group will be brought to the full Council for formal consideration and action, if appropriate.

DATES: This meeting will be held on Thursday, November 1, 2018, beginning at 9:30 a.m.

ADDRESSES: The meeting will be held at the Hilton Garden Inn, Boston Logan, 100 Boardman Street, Boston, MA 02128; phone: (617) 567-6789.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The VMS/Enforcement Committee will meet to discuss the cod end Compliance Assistance Program (CAP) and potential changes to it, enforcement of cod discards, enforcement of the Atlantic Large Whale Take Reduction Plan (ALWTRP), and enforcement participation at Plan Development Team (PDT) meetings. The Committee will have a demonstration of the Omega electronic mesh measurement gauge, receive a report comparing the Omega gauge with the current wedge-shaped gauge, and discuss possible Secretarial Action to include the Omega gauge in the regulations. The Committee will review alternatives under consideration in the Habitat clam dredge framework and provide recommendations regarding their enforceability.

The Committee seeks fishermen's input on several items, specifically nearshore trawler boardings and enforcement operations in general, and encourages fishermen to attend. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 5, 2018.
Tracey L. Thompson,
Acting Deputy Director, Office of Sustainable Fisheries, National Marine Fisheries Service.

[FR Doc. 2018-22200 Filed 10-11-18; 8:45 am]

BILLING CODE 3510-22-P